DEPARTMENT OF ENERGY

Federal Energy Regulatory Commission

[Project No. 477-024]

Notice of Applications for Amendment of License and Surrender of License and Settlement Agreement and Decommissioning Plan and Soliciting Comments, Motions to Intervene, and Protests

November 21, 2002.

Take notice that the following hydroelectric applications have been filed with the Commission and are available for public inspection:

a: Application Type: Amendment of License, Surrender of License, Settlement Agreement and Decommissioning Plan.

b: Project No.: 477-024.

c: Date Filed: November 12, 2002.

d: Applicant: Portland General Electric Company (PGE).

e: Name of Project: Bull Run Hydroelectric Project.

f: Location: On the Sandy, Little Sandy, and Bull Run Rivers, near the Town of Sandy, Clackamas County, Oregon. The project is located on lands administered by the Forest Service (Mt. Hood National Forest) and the Bureau of Land Management.

g. Filed Pursuant to: Federal Power Act, 16 U.S.C. 791(a)-825(r); Rule 602 of the Commission's Rules of Practice and Procedure, 18 CFR 385.602.

h: Applicant Contact: Julie A. Keil, Director, Hydro Licensing and Water Rights, PGE, 121 SW Salmon Street, Portland, Oregon 97204, 503-464-8864.

i. FERC Contact: Alan Mitchnick, 202-502-6074; alan.mitchnick@ferc.gov.

j. Cooperating agencies: We are asking federal, state, local, and tribal agencies with jurisdiction and/or special expertise with respect to environmental issues to cooperate with us in the preparation of the environmental document. Agencies wishing to request cooperating status should follow the instructions for filing documents described in item k below.

k. Deadline for filing comments, motions to intervene, and protests and requests for cooperating agency status: 60 days from the issuance date of this notice.

All documents (original and eight copies) should be filed with: Magalie R. Salas, Secretary, Federal Energy Regulatory Commission, 888 First Street, NE., Washington, DC 20426.

The Commission's rules of practice and procedure require all intervenors filing documents with the Commission to serve a copy of that document on each person whose name appears on the official service list for the project. Further, if an intervenor files comments or documents with the Commission relating to the merits of an issue that may affect the responsibilities of a particular resource agency, they must also serve a copy of the document on that resource agency.

Comments, motions to intervene, and protests and requests for cooperating agency status may be filed electronically via the Internet in lieu of paper. The Commission strongly encourages electronic filings. See 18 CFR 385.2001(a)(1)(iii) and the instructions on the Commission's web site http://www.ferc.gov under the “e-Filing” link.

l. Amendment Application: PGE proposes to: (i) Extend the term of the license from November 16, 2004, to November 16, 2017; (ii) continue generation until removal of the Little Sandy dam in 2008; (iii) implement a program of geomorphological and water quality monitoring continuing until Marmot dam removal; (iv) continue operation of the fish ladder and sorting facility at Marmot dam until Marmot dam removal; and (v) modify the operation of the diversion canal at Marmot dam to provide protection of threatened fish species from November 2004 until November 2007.

Surrender Application: The Project works include: Marmot dam, located at River Mile (RM) 30 on the Sandy River; a 3.1-mile-long series of canals and tunnels leading from Marmot dam to the Little Sandy River just upstream of the Little Sandy diversion dam; the Little Sandy diversion dam, located at RM 1.7 on the Little Sandy River; a 2.8-mile-long box flume leading from the Little Sandy diversion dam to the manmade forebay, Roslyn Lake; two 1,200 foot penstocks; and a powerhouse containing four generators with a total capacity of 22 megawatts. The powerhouse discharges to the Bull Run River 1.5 miles above its confluence with the Sandy River at RM 18.4.

PGE proposes the complete removal of both Marmot and the Little Sandy diversion dams, starting in 2007, along with the dismantling of their associated water conveyance structures. In addition, Roslyn Lake would be drained, the powerhouse generating equipment would be disabled, and the powerhouse structure would be demolished. All PGE-owned lands within the existing project boundary would be conveyed to the Western Rivers Conservancy once the license is surrendered and the project is removed, and used to protect and conserve fish and wildlife habitat, public access, and recreation opportunities in the Sandy River Basin. Project water rights would be relinquished and would revert to instream use.

Settlement Agreement and Decommissioning Plan: PGE filed a settlement agreement concerning the removal of the project. The signatories include PGE, 10 federal, state, and local agencies, and 12 non-governmental organizations. The agreement includes a decommissioning plan consistent with the applications for amendment of license and surrender.

m. Copies of the applications and settlement agreement are available for review at the Commission in the Public Reference Room or may be viewed on the Commission's website at http://www.ferc.gov using the “FERRIS” link. Enter the docket number excluding the last three digits in the docket number field to access the document. For assistance, contact FERC Online Support at FERCOnlineSupport@ferc.gov or toll-free at 1-866-208-3676, or for TTY, (202) 502-8659. A copy is also available for inspection and reproduction at the address in item h above.

n. Individuals desiring to be included on the Commission's mailing list should so indicate by writing to the Secretary of the Commission.

Anyone may submit comments, a protest, or a motion to intervene in accordance with the requirements of rules of practice and procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Any filings must bear in all capital letters the title “COMMENTS,” “PROTEST,” or “MOTION TO INTERVENE,” as applicable, and the Project Number of the particular application to which the filing refers. A copy of any motion to intervene must also be served upon each representative of the Applicant specified in the particular application.

Federal, state, and local agencies are invited to file comments on the described application. A copy of the application may be obtained by agencies directly from the applicant. If an agency does not file comments within the time specified for filing comments, it will be presumed to have no comments. One copy of an agency's comments must also be sent to the Applicant's representatives.

Linwood A. Watson, Jr.,
Deputy Secretary.

[FR Doc. 02-30207 Filed 11-26-02; 8:45 am]

BILLING CODE 6717-01-P